DEPARTMENT OF HOMELAND SECURITY

Coast Guard

[Docket No. USCG-2025-0644]

Certificates of Alternative Compliance for the Coast Guard Heartland District

AGENCY: Coast Guard, DHS.

ACTION: Notification of issuance of certificates of alternative compliance.

SUMMARY: The Coast Guard announces that the Coast Guard Heartland (Previously District 8) District's Prevention Division has issued certificates of alternative compliance from the International Regulations for Preventing Collisions at Sea, 1972 (72 COLREGS), to vessels of special construction or purpose that cannot fully comply with the light, shape, and sound signal provisions of 72 COLREGS without interfering with the vessel's design and construction. We are issuing this notice because its publication is required by statute. This notification of issuance of certificates of alternative compliance promotes the Coast Guard's marine safety mission.

DATES: These Certificates of Alternative Compliance were issued between January 2025 and June 2025.

FOR FURTHER INFORMATION CONTACT: For information or questions about this notice call or email Lieutenant Jenifer Abiona, Heartland District, Prevention Division, U.S. Coast Guard, telephone 206-827-2691, email Jenifer.V.Abiona@uscg.mil.

SUPPLEMENTARY INFORMATION: The United States is signatory to the International Maritime Organization's International Regulations for Preventing Collisions at Sea, 1972 (72 COLREGS), as amended. The special construction or purpose of some vessels makes them unable to comply with the light, shape, or sound signal provisions of the 72 COLREGS. Under statutory law, however, specified 72 COLREGS provisions are not applicable to a vessel of special construction or purpose if the Coast Guard determines that the vessel cannot comply fully with those requirements without interfering with the special function of the vessel.¹

¹ 33 U.S.C. 1605.

The owner, builder, operator, or agent of a special construction or purpose vessel may apply to the Coast Guard District Office in which the vessel is being built or operated for a determination that compliance with alternative requirements is justified,² and the Chief of the Prevention Division would then issue the applicant a certificate of alternative compliance (COAC) if he or she determines that the vessel cannot comply fully with 72 COLREGS light, shape, and sound signal provisions without interference with the vessel's special function.³ If the Coast Guard issues a COAC, it must publish notice of this action in the Federal Register.⁴

² 33 CFR 81.5.

³ 33 CFR 81.9.

⁴ 33 U.S.C. 1605(c) and 33 CFR 81.18.

The Coast Guard Heartland (D8) District has issued COACs to the following vessels from January 2025 to June 2025:

Year | Vessel Name | Details
2025 | HOS ROCINANTE | This certificate authorized the placement of the vessel's forward masthead light positioned centerline as far forward as possible on Deck 05 at a distance of 47′-10 ⅜″ above the main deck, 96′-11 ¼″ forward of the aft masthead light, and a vertical distance of 34′-1 ⅞″ from the aft masthead light; and the restricted in ability to maneuver and not under command (RAM/NUC) lights placed 7′-8 ⅛″ off centerline starting 66′-4 ⅜″ above the main deck and vertically spaced at 6′-6 ¾″.
2025 | DAVID NORTH | This certificate authorized the placement of the vessel's sidelights on the pilothouse roof, 34′-9″ above the main deck, 7′-½″ inboard from the sides of the vessel, and 4′-⅝″ aft of the forward masthead light.
2025 | ECO LIBERTY | This certificate authorized the placement of the vessel's forward masthead light on the elevated pilothouse, centerline, positioned 76′-3 9/16″ aft of the vessels bow, 58′-9 9/16″ above the main deck and the aft masthead light positioned centerline, placed 71′-7 13/16″ aft of the FWD masthead light, and 46′-3 5/16″ above the FWD masthead light.
2025 | WILLIAM E MORAN | This certificate authorized the placement of the vessel's sidelights on the elevated pilothouse, positioned 13′-2″ from side of the vessel, and 21′-1″ above the main deck; stern light aft side of the elevated pilothouse, 1′-4″ starboard of centerline, and 6′-9 ½″ aft of amidships; masthead light centerline on the elevated pilothouse, 40′-3 ½″ above the main deck when upright, and 27′-2″ above the main deck when mast is in the lowered position during ship assist work to prevent damage when working in close proximity to a ship's bow/stern flare; and restricted in ability to maneuver (RAM) and not under command (NUC) lights placed 6″ forward of the masthead lights starting at a height of 28′-9 11/16″ above the main deck with vertical spacing between the RAM/NUC lights being 3′-3 ⅜″.
2025 | AET PARTNERSHIP | This certificate authorized the placement of the vessel's stern light at centerline on the aft edge of the foc'sle deck, 107′-1 5/16″ from the stern, and 17′-8 ⅞″ from the main deck, and towing light positioned centerline on the aft edge of the foc'sle deck, 107′-1 5/16″ from the stern, and 24′-3 ⅝″ from the main deck.
2025 | AET INNOVATOR | This certificate authorized the placement of the vessel's stern light at centerline on the aft edge of the foc'sle deck, 107′-1 5/16″ from the stern, and 17′-8 ⅞″ from the main deck, and towing light positioned centerline on the aft edge of the foc'sle deck, 107′-1 5/16″ from the stern, and 24′-3 ⅝″ from the main deck.
2025 | AET RESPONSIBILITY | This certificate authorized the placement of the vessel's stern light at centerline on the aft edge of the foc'sle deck, 107′-1 5/16″ from the stern, and 17′-8 ⅞″ from the main deck and towing light positioned centerline on the aft edge of the foc'sle deck, 107′-1 5/16″ from the stern, and 24′-3 ⅝″ from the main deck.
2025 | AET EXCELLENCE | This certificate authorized the placement of the vessel's stern light at centerline on the aft edge of the foc'sle deck, 107′-1 5/16″ from the stern, and 17′-8 ⅞″ from the main deck, and towing light positioned centerline on the aft edge of the foc'sle deck, 107′-1 5/16″ from the stern, and 24′-3 5/8″ from the main deck.
2025 | ACBL MARINER | This certificate authorized the placement of the vessel's forward masthead light on the pilothouse roof, 52′-3″ above the main deck, 14′-10 ¾″ forward of the main mast; and stern light on the upper deck aft mast, 4′-3 ¼″ above the main deck, centerline of the vessel.
2025 | RIO GULF | This certificate authorized the placement of the vessel's masthead light on the mast above the pilot house at a height of 39′-4 ⅝″ above the hull and when the mast is in the lowered position, a height of 22′-7 ⅛″ above the hull; sidelights positioned near the pilot house at a height of 12′-5 ⅝″ above the hull and 10′-1″ outboard from the centerline of the vessel; stern light—based on the towing vessel being dual direction operation: ahead direction: Stern light centered on the pilot house at a height of 22′-7 ⅛″ for pushing ahead operations (e.g., pushing, hauling alongside, and pulling); and astern direction: stern light placed on the mast at a height of 27′-9 ⅝″ for astern operations (e.g., towing), and restricted in ability to maneuver (RAM) and not under command (NUC) lights placed 1′-6″ off centerline starting at 25′-5 ⅛″ above the hull and vertically spaced at 6′-7″.
2025 | HOS ROSEBUD | This certificate authorized the placement of the vessel's stern light centered on the aft end of the 03 deck at a height of 29′-4″ and 192′-6″ forward of the stern.
2025 | JOHN PAUL ECKSTEIN | This certificate authorized the placement of the vessel's masthead light centered on the forward end of the top deck, 33′-2″ aft of the bow and 14′-10 15/16″ forward of the aft masthead and stern light centered on the upper deck at a height of 4′-10 ½″ and 11′-½″ forward of the stern.
2025 | KENTUCKY | This certificate authorized the placement of the vessel's masthead light centerline on the pilot house, 24′-6 ⅜″ above the main deck and 38′-3 ⅝″ aft of the bow; stern light centered on the upper deck at a height of 20′-4 ¾″ and 46′-1 15/16″ forward of the stern; sidelights positioned on the pilot house, 4′-6″ outboard from the centerline of the vessel and 20′-4 ¾″ above the main deck and restricted in ability to maneuver (RAM) and not under command (NUC) lights placed 17′ 13/16″ off centerline starting at 23′-7 ⅞″ from main deck, and vertically spaced at 6′-7″.
2025 | CAMERON BLAIR | This certificate authorized the placement of the vessel's Masthead Lights—Based on the pilot house being retractable: Raised Pilot House: Upper Masthead Light at a height of 42′-6 ⅜″ from the main deck and Lower Masthead Light at a height of 35′-10 ⅜″ from the main deck; and Lowered Pilot House: Upper Masthead Light at a height of 31′-⅜″ from the main deck and Lower Masthead Light at a height of 24′-4 ⅜″ from the main deck. Sidelights can be positioned on the pilot house at a height of 29′-10″ from the main deck in the raised position, 6′-11″ outboard from the centerline of the vessel, and at a height of 14′-4″ from the main deck when the pilot house is in the lowered position, and Restricted in Ability to Maneuver (RAM) and Not Under Command (NUC) lights rather than placing these lights on the centerline in a vertical line with the masthead lights, they may be placed 3′-4″ off centerline starting 4′-10″ above the pilot house and vertically spaced at 3′-4″.
2025 | CAPTAIN JERRY O | This certificate authorized the placement of the vessel's Masthead Lights—Based on the pilot house being retractable: Raised Pilot House: Upper Masthead Light at a height of 42′-6 ⅜″ from the main deck and Lower Masthead Light at a height of 35′-10 ⅜″ from the main deck; and Lowered Pilot House: Upper Masthead Light at a height of 31′-⅜″ from the main deck and Lower Masthead Light at a height of 24′-4 ⅜″ from the main deck. Sidelights can be positioned on the pilot house at a height of 29′-10″ from the main deck in the raised position, 6′-11″ outboard from the centerline of the vessel, and at a height of 14′-4″ from the main deck when the pilot house is in the lowered position, and Restricted in Ability to Maneuver (RAM) and Not Under Command (NUC) lights rather than placing these lights on the centerline in a vertical line with the masthead lights, they may be placed 3′-4″ off centerline starting 4′-10″ above the pilot house and vertically spaced at 3′-4″.

The Chief of Prevention Division of the Heartland District, U.S. Coast Guard, certifies that the vessels listed above are of special construction or purpose and are unable to comply fully with the requirements of the provisions enumerated in the 72 COLREGS, without interfering with the normal operation, construction, or design of the vessels. The Chief of Prevention Division further finds and certifies that the listed vessels are in the closest possible compliance with the applicable provisions of the 72 COLREGS.⁵

⁵ 33 U.S.C. 1605(a); 33 CFR 81.9.

This notice is issued under authority of 33 U.S.C. 1605(c) and 33 CFR 81.18.

Dated: August 7, 2025.
J.B. Wheeler,
Captain, U.S. Coast Guard, Chief of Prevention, Coast Guard Heartland District.

[FR Doc. 2025-15769 Filed 8-18-25; 8:45 am]

BILLING CODE 9110-04-P